DEPARTMENT OF TRANSPORTATION

Federal Aviation Administration

14 CFR Part 39

[Docket No. FAA-2019-0047; Product Identifier 2018-CE-062-AD; Amendment 39-19549; AD 2019-02-02]

RIN 2120-AA64

Airworthiness Directives; Pacific Aerospace Ltd. Airplanes

AGENCY: Federal Aviation Administration (FAA), DOT.

ACTION: Final rule; request for comments.

SUMMARY: We are adopting a new airworthiness directive (AD) for all Pacific Aerospace Ltd. Model FBA-2C1, FBA-2C2, FBA-2C3, and FBA-2C4 airplanes. This AD was prompted by a report of corrosion found in the external and internal surfaces of an elevator push-pull rod. This AD requires an inspection for corrosion of the elevator push-pull rod assembly, and corrective actions if necessary. We are issuing this AD to address the unsafe condition on these products.

DATES: This AD becomes effective February 27, 2019.

The Director of the Federal Register approved the incorporation by reference of a certain publication listed in this AD as of February 27, 2019.

We must receive comments on this AD by March 29, 2019.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: U.S. Department of Transportation, Docket Operations, M-30, West Building Ground Floor, Room W12-140, 1200 New Jersey Avenue SE, Washington, DC, between 9 a.m. and 5 p.m., Monday through Friday, except Federal holidays.

For service information identified in this final rule, contact Pacific Aerospace Ltd., Airport Road, Hamilton, Private Bag 3027, Hamilton 3240, New Zealand; telephone: +64 7843 6144; fax: +64 7843 6134; email: pacific@aerospace.co.nz; internet: www.aerospace.co.nz. You may view this referenced service information at the FAA, Policy and Innovation, 901 Locust, Kansas City, Missouri 64106. For information on the availability of this material at the FAA, call 816-329-4148. It is also available on the internet at http://www.regulations.gov by searching for and locating Docket No. FAA-2019-0047.

Examining the AD Docket

You may examine the AD docket on the internet at http://www.regulations.gov by searching for and locating Docket No. FAA-2019-0047; or in person at Docket Operations between 9 a.m. and 5 p.m., Monday through Friday, except Federal holidays. The AD docket contains this AD, the regulatory evaluation, any comments received, and other information. The street address for Docket Operations (telephone 800-647-5527) is in the ADDRESSES section. Comments will be available in the AD docket shortly after receipt.

FOR FURTHER INFORMATION CONTACT: Andrea Jimenez, Aerospace Engineer, Airframe and Propulsion Section, FAA, New York ACO Branch, 1600 Stewart Avenue, Suite 410, Westbury, NY 11590; telephone 516-228-7330; fax 516-794-5531; email 9-avs-nyaco-cos@faa.gov.

SUPPLEMENTARY INFORMATION:

Discussion

The Civil Aviation Authority of New Zealand has issued New Zealand AD DCA/FBA/4, effective December 6, 2018 (referred to after this as the Mandatory Continuing Airworthiness Information, or “the MCAI”), to correct an unsafe condition for all Pacific Aerospace Ltd. Model FBA-2C1, FBA-2C2, FBA-2C3, and FBA-2C4 airplanes. The MCAI states:

During a visual inspection corrosion was found in the external surface of a push-pull rod on a FBA-2C1 aircraft in operation overseas. Further investigation revealed severe corrosion in the internal surface of the elevator push-pull rod. To ensure the integrity of the elevator push-pull rod assembly DCA/FBA/4 is issued to mandate the instructions in Pacific Aerospace Service Bulletin (SB) PACSB/2C/001 issue 1, dated 25 September 2018.

The unsafe condition is failure of the elevator push-pull rod due to corrosion in the internal surface, which could result in loss of elevator control. Although the unsafe condition was found on a Model FBA-2C1 airplane, we have determined that the design of the push-pull rod assembly is similar on Model FBA-2C2, FBA-2C3, and FBA-2C4 airplanes; therefore, the unsafe condition may exist on those airplane models as well. You may examine the MCAI on the internet at http://www.regulations.gov by searching for and locating Docket No. FAA-2019-0047.

Related Service Information Under 1 CFR Part 51

Pacific Aerospace Ltd. has issued Service Bulletin PACSB/2C/001, Issue 1, dated September 25, 2018. This service information describes the following procedures:

• A borescopic inspection for corrosion of the internal surface of the elevator push-pull rod assembly, and replacement of any push-pull rod assembly that has interior corrosion.

• an inspection for corrosion of the exterior of any elevator push-pull rod assembly with no internal corrosion, and corrective actions including removal of light corrosion and replacement of any elevator push-pull rod assembly that has moderate to severe corrosion.

• other applicable specified actions including application of lubricant and corrosion-inhibiting compound.

This service information is reasonably available because the interested parties have access to it through their normal course of business or by the means identified in the ADDRESSES section.

FAA's Determination

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

Requirements of This AD

This AD requires accomplishing the actions specified in the service information described previously.

FAA's Justification and Determination of the Effective Date

An unsafe condition exists that requires the immediate adoption of this AD without providing an opportunity for public comments prior to adoption. The FAA has found that the risk to the flying public justifies waiving notice and comment prior to adoption of this rule because failure of the elevator push-pull rod assembly in flight could result in loss of elevator control and loss of control of the airplane. Therefore, we find good cause that notice and opportunity for prior public comment are impracticable. In addition, for the reasons stated above, we find that good cause exists for making this amendment effective in less than 30 days.

Comments Invited

This AD is a final rule that involves requirements affecting flight safety, and we did not precede it by notice and opportunity for public comment. We invite you to send any written relevant data, views, or arguments about this AD. Send your comments to an address listed under the ADDRESSES section. Include “Docket No. FAA-2019-0047; Product Identifier 2018-CE-062-AD” at the beginning of your comments. We specifically invite comments on the overall regulatory, economic, environmental, and energy aspects of this AD. We will consider all comments received by the closing date and may amend this AD based on those comments.

We will post all comments we receive, without change, to http://www.regulations.gov, including any personal information you provide. We will also post a report summarizing each substantive verbal contact we receive about this AD.

Costs of Compliance

We estimate that this AD affects 3 airplanes of U.S. registry. We estimate the following costs to comply with this AD:

Estimated Costs for Required Actions
Labor cost | Parts cost | Cost per product | Cost on U.S. operators
1 work-hour × $85 per hour = $85 | $0 | $85 | $255

In addition, we estimate that any necessary follow-on replacement will take 2 work-hours and require parts costing $272, for a cost of $442 per product. We have no way of determining the number of aircraft that might need this on-condition action.

Since corrosion may affect the parts subject to inspection differently, and the severity of the corrosion on the part will affect the time necessary to correct the condition, we have no way to determine an overall cost per product for removing the corrosion.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to small airplanes, gliders, balloons, airships, domestic business jet transport airplanes, associated appliances to the Director of the Policy and Innovation Division.

Director of the Policy and Innovation Division. Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-02-02 Pacific Aerospace Ltd.: Amendment 39-19549; Docket No. FAA-2019-0047; Product Identifier 2018-CE-062-AD.

(a) Effective Date

This AD becomes effective February 27, 2019.

(b) Affected ADs

None.

(c) Applicability

This AD applies to all Pacific Aerospace Ltd. Model FBA-2C1, FBA-2C2, FBA-2C3, and FBA-2C4 airplanes, certificated in any category.

(d) Subject

Air Transport Association (ATA) of America Code 27, Flight controls.

(e) Reason

This AD was prompted by a report of corrosion found in the external and internal surfaces of a push-pull rod. We are issuing this AD to address failure of the elevator push-pull rod assembly, which could cause loss of elevator control and loss of control of the airplane.

(f) Compliance

Comply with this AD within the compliance times specified, unless already done.

(g) Inspection and Corrective Actions

Within 50 hours' time-in-service or 60 days after the effective date of this AD, whichever occurs first, do a borescopic inspection for corrosion of the interior of the elevator push-pull rod assembly, and before further flight replace any elevator push-pull rod assembly that has internal corrosion, in accordance with the Accomplishment Instructions of Pacific Aerospace Ltd. Service Bulletin PACSB/2C/001, Issue 1, dated September 25, 2018. If no internal corrosion is found, before further flight inspect for corrosion of the exterior of the elevator push-pull rod assembly and do all applicable corrective actions for reassembly, in accordance with the Accomplishment Instructions of Pacific Aerospace Ltd. Service Bulletin PACSB/2C/001, Issue 1, dated September 25, 2018. Do all other specified actions as applicable before further flight in accordance with the Accomplishment Instructions of Pacific Aerospace Ltd. Service Bulletin PACSB/2C/001, Issue 1, dated September 25, 2018.

(h) Other FAA AD Provisions

The following provisions also apply to this AD:

(1) Alternative Methods of Compliance (AMOCs): The Manager, New York ACO Branch, FAA, has the authority to approve AMOCs for this AD, if requested using the procedures found in 14 CFR 39.19. In accordance with 14 CFR 39.19, send your request to your principal inspector or local Flight Standards District Office, as appropriate. If sending information directly to the manager of the certification office, send it to ATTN: Program Manager, Continuing Operational Safety, FAA, New York ACO Branch, 1600 Stewart Avenue, Suite 410, Westbury, NY 11590; telephone 516-228-7300; fax 516-794-5531. Before using any approved AMOC, notify your appropriate principal inspector, or lacking a principal inspector, the manager of the local flight standards district office/certificate holding district office.

(2) Contacting the Manufacturer: For any requirement in this AD to obtain corrective actions from a manufacturer, the action must be accomplished using a method approved by the Manager, New York ACO Branch, FAA; or the Civil Aviation Authority of New Zealand.

(i) Related Information

(1) Refer to Mandatory Continuing Airworthiness Information (MCAI) New Zealand AD DCA/FBA/4, effective December 6, 2018, for related information. This MCAI may be found in the AD docket on the internet at http://www.regulations.gov by searching for and locating Docket No. FAA-2019-****.

(2) For more information about this AD, contact Andrea Jimenez, Aerospace Engineer, FAA, New York ACO Branch, 1600 Stewart Avenue, Suite 410, Westbury, NY 11590; telephone 516-228-7330; fax 516-794-5531; email 9-avs-nyaco-cos@faa.gov.

(j) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Pacific Aerospace Ltd. Service Bulletin PACSB/2C/001, Issue 1, dated September 25, 2018.

(ii) [Reserved]

(3) For service information identified in this AD, contact Pacific Aerospace Limited, Airport Road, Hamilton, Private Bag 3027, Hamilton 3240, New Zealand; telephone: +64 7843 6144; fax: +64 7843 6134; email: pacific@aerospace.co.nz; internet: www.aerospace.co.nz.

(4) You may view this service information at the FAA, Policy and Innovation, 901 Locust, Kansas City, Missouri. For information on the availability of this material at the FAA, call 816-329-4148. It is also available on the internet at http://www.regulations.gov by searching for and locating Docket No. FAA-2019-0047.

(5) You may view this service information that is incorporated by reference at the National Archives and Records Administration (NARA). For information on the availability of this material at NARA, call 202-741-6030, or go to http://www.archives.gov/federal-register/cfr/ibr-locations.html.

Issued in Kansas City, Missouri, on January 31, 2019.
Melvin J. Johnson,
Aircraft Certification Service, Deputy Director, Policy and Innovation Division, AIR-601.

[FR Doc. 2019-01541 Filed 2-11-19; 8:45 am]

BILLING CODE 4910-13-P